DEPARTMENT OF HEALTH AND HUMAN SERVICES

National Institutes of Health

Submission for OMB Review; 30-Day Comment Request; NIH Extramural Harassment Web Form (Office of the Director, Office of Extramural Research)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Dr. Patricia Valdez, Chief Extramural Research Integrity Officer, Office of Extramural Research, National Institutes of Health, 6705 Rockledge Dr., Room 811-G MSC 7963, Bethesda, Maryland 20892 or call non-toll-free number (301) 451-2160 or email your request, including your address to: patricia.valdez@nih.gov. Formal requests for additional plans and instruments must be requested in writing.

SUPPLEMENTARY INFORMATION: This proposed information collection was previously published in the Federal Register on June 21, 2022, pages 36865-36866 (87 FR 36865) and allowed 60 days for public comment. No public comments were received. The purpose of this notice is to allow an additional 30 days for public comment. The Office of Extramural Research (OER), National Institutes of Health, may not conduct or sponsor, and the respondent is not required to respond to, an information collection that has been extended, revised, or implemented on or after October 1, 1995, unless it displays a currently valid OMB control number.

In compliance with section 3507(a)(1)(D) of the Paperwork Reduction Act of 1995, the National Institutes of Health (NIH) has submitted to the Office of Management and Budget (OMB) a request for review and approval of the information collection listed below.

Proposed Collection: NIH Extramural Harassment Web Form, 0925-NEW, exp., date, XX/XX/XXXX, National Institutes of Health (NIH) Office of the Director (OD), Office of Extramural Research (OER).

Need and Use of Information Collection: The purpose of this web form is to assist extramural institutions with complying with section 239 of the Consolidated Appropriations Act, 2022 (Pub. L. 117-103), division H, title II, which requires that “institutions that receive funds through a grant or cooperative agreement during fiscal year 2022 and in future years to notify the Director when individuals identified as a principal investigator or as key personnel in an NIH notice of award are removed from their position or are otherwise disciplined due to concerns about harassment, bullying, retaliation, or hostile working conditions.” The Harassment Web Form will be used as a secure and confidential portal by which recipient institutions notify NIH when individuals identified as PD/PI or other Senior/Key personnel in an NIH notice of award are removed from their position or are otherwise disciplined by the recipient institution due to concerns about harassment, bullying, retaliation or hostile working conditions, as specified in NOT-OD-22-129. Notification must be provided by the Authorized Organization Representative within 30 days of the removal or disciplinary action and must be submitted to NIH through the Harassment Web Form. All required notifications must include, at a minimum, the name of the Authorized Organization Representative submitting the notification, the name of the individual of concern, a description of the concerns, the action(s) taken, and any anticipated impact on the NIH-funded award(s).

OMB approval is requested for three years. There are no costs to respondents other than their time. The total estimated annualized burden hours are 60.

Estimated Annualized Burden Hours
Type of respondent | Number of respondents | Number of responses per respondent | Average burden per response (in hours) | Total annual burden hours
Private Sector | 240 | 1 | 15/60 | 60
Total |  | 240 |  | 60

Dated: September 15, 2022.
Tara A. Schwetz,
Acting Principal Deputy Director, National Institutes of Health.

[FR Doc. 2022-20468 Filed 9-20-22; 8:45 am]

BILLING CODE 4140-01-P